GENERAL SERVICES ADMINISTRATION

Notice of the Availability of the Draft Environmental Impact Statement and Notice of Public Hearing on the Draft Environmental Impact Statement for a Proposed Department of Transportation Headquarters

AGENCY: National Capital Region; General Services Administration, Department of Transportation.

ACTION: Proposed lease acquisition of a new or renovated headquarters for the Department of Transportation in the Central Employment Area of Washington, DC.

SUMMARY: The General Services Administration (GSA) announces the availability of the Draft Environmental Impact Statement (Draft EIS) for the proposed lease acquisition of a new or renovated headquarters for the Department of Transportation (DOT) in the Central Employment Area (CEA) of Washington, DC. GSA also announces that a public hearing on the Draft EIS will be held on July 12, 2000.

Background Information

DOT seeks to update its facilities, maximize efficiency, and reorganize and consolidate its operations. To this end, GSA is currently conducting a competitive procurement of 1.35 million rentable square feet of new or renovated space under an operating lease for a term of fifteen years. Consolidation in a new or renovated headquarters will produce significant operating efficiencies in support of DOT's mission.

The Government is conducting this procurement as a negotiated, best value source selection. This procurement process has been developed with full integration of the NEPA process, incorporating NEPA compliance into the agency's decision making framework. The results of this effort will be full public participation and submission of final proposals that address potential environmental impacts. The Government's evaluation of final proposals will include consideration of an offeror's ability and willingness to address impacts and implement proposed mitigation measures identified through the NEPA process, including public comments received on the Draft EIS.

Draft EIS Availability

Copies of the Draft EIS will be available for review at the locations identified below. Also available for review will be copies of the transcript of proceedings from the April 11th Public Scoping Meeting and public comments submitted. In addition, the Draft EIS and other information regarding this project are available on the internet at http://www.evolv.com/DOT.

The Draft EIS may be viewed at the following locations:

1. Department of Transportation, Dockets Room, PL-401, 400 7th Street, SW, Washington, DC 20590.

2. Martin Luther King Library, 9th & G Streets, NW, Washington, DC.

3. Public Affairs Office, Navy, Bldg, 200, 2nd Floor, Wing 1 North, Washington Navy Yard, Washington, DC.

Public Hearing

A Notice of Intent to prepare an EIS and conduct a public scoping meeting was issued on June 30, 1999. The public scoping meeting was held on July 29, 1999 to assist GSA in determining the significant issues related to this project. A second public scoping meeting was held on April 11, 2000 to provide the public a further opportunity to comment on the project and, specifically, the sites and proposals selected to participate in Phase II of the competition. Comments from both these meetings have been incorporated into the Draft EIS.

The subject of this notice is a public hearing that will be held to solicit comment from agencies and the public on the Draft EIS. This public hearing will be held at 7 pm on Wednesday, July 12, 2000, at the Ronald Reagan Building and International Trade Center Horizon Ballroom (Ground Level, 13½ Street Entrance) 13th Street and Pennsylvania Avenue, NW., Washington, DC 20004.

The hearing will be advertised in local and regional newspapers as the date of the hearing approaches. At the hearing, a short formal presentation will precede the request for public comments. GSA representatives will be available to receive comments from the public regarding issues of concern, including comments on the potential impacts of the proposed project, means of mitigating those impacts, and project alternatives.

GSA encourages Federal, regional, state and local agencies, and interested individuals and groups, to take this opportunity to identify environmental concerns that they believe should be addressed in the Final EIS. In the interest of available time, each speaker will be asked to limit oral comments to five (5) minutes. However, agencies and the general public are encouraged to provide written comments on the scoping issues in addition to, or in lieu of, presenting oral comments at the public hearing.

Written comments will be accepted through July 24, 2000. All written and oral comments will be addressed and incorporated into the Final EIS. GSA anticipates that the Final EIS will be released in the Fall of 2000.

Project Information

Topics of environmental analysis presented in the Draft EIS include short term impacts of construction and long-term impacts of site operations and maintenance on land use, historic resources, visual resources, physical and biological resources, public transportation, traffic and parking, public services and utilities, and socio-economic conditions. The environmental analysis also addresses cumulative impacts that would result from this end and other development projects that have been completed recently, are currently under development, and are proposed within each study area.

Time and Location of Meeting

The public meeting will be held: At 7 p.m. Wednesday, 12, 2000 at the Ronald Reagan Building and International Trade Center Horizon Ballroom (Ground Level, 13½ Street Entrance) 13th Street and Pennsylvania Avenue, NW Washington, DC 20004.

Dates: Written comments on the Draft EIS must be postmarked no later than July 24, 2000, to the following address: General Services Administration, Attn: Mr. John Simeon, Portfolio Development Division (WPC), 7th and D Streets, SW., Suite 2002, Washington, DC 20407.

FOR FURTHER INFORMATION PLEASE CONTACT: Mr. John Simeon, General Services Administration, (202) 260-9586.

Dated: June 6, 2000.
Anthony Costa,
Assistant Regional Administrator, National Capital Region, General Services Administration.

[FR Doc. 00-14734 Filed 6-9-00; 8:45 am]

BILLING CODE 6820-23-M